DEPARTMENT OF THE INTERIOR

National Park Service

[NPS-WASO-CONC-36347; PPWOBSADC0, PPMVSCS1Y.Y00000]

Notice of Intent To Extend and Continue Concession Contracts and Award Temporary Concession Contracts

AGENCY: National Park Service, Interior.

ACTION: Public notice.

SUMMARY: The National Park Service gives public notice that, pursuant to the terms of the concession contracts identified in the tables below, as applicable, and in accordance with NPS regulations, it intends to: extend each concession contract listed in Table 1 below until the date shown in the “Extension Expiration Date” column or until the effective date of a new contract, whichever comes first; continue each concession contract listed in Table 2 below until the date shown in the “Continuation Expiration Date” column or until the effective date of a new contract, whichever comes first; and award the temporary concession contract listed in Table 3 below.

DATES: The National Park Service intends that the concession contract extensions, continuations, and temporary concession contracts will be effective on the dates shown in the tables below, as applicable.

FOR FURTHER INFORMATION CONTACT: Kurt Rausch, Program Chief, Commercial Services Program, National Park Service, 1849 C Street NW, Mail Stop 2410, Washington, DC 20240; Telephone: 202-513-7156.

SUPPLEMENTARY INFORMATION: Under 36 CFR 51.23 the National Park Service proposes to extend each contract listed in Table 1 until the date shown in the “Extension Expiration Date” column or until the effective date of a new contract, whichever comes first. The National Park Service has determined that the proposed extensions are necessary to avoid an interruption of visitor services and has taken all reasonable and appropriate steps to consider alternatives to avoid such an interruption. The extension of the existing contracts does not confer or affect any rights with respect to the award of new contracts.

The concession contracts listed in Table 2 below have been extended for the maximum time allowable under 36 CFR 51.23. Under the provisions of the existing contracts and pending the issuance of prospectuses and the completion of the public solicitation process to award new concession contracts, the National Park Service intends to continue the existing contracts until the date shown in the “Continuation Expiration Date” column or until the effective date of a new contract, whichever comes first. The continuation of the existing contracts does not confer or affect any rights with respect to the award of new concession contracts.

The National Park Service proposes awarding a temporary concession contract, in accordance with 36 CFR 51.24(a), to provide the visitor services currently provided under the contract listed in Table 3 below. The temporary contract will have a term not to exceed three years and will be awarded to a qualified person. The National Park Service anticipates that the temporary contract will be effective on the date shown in the “Effective Date” column. This notice is not a request for proposals.

The publication of this notice reflects the intent of the National Park Service but does not bind the National Park Service to extend, continue, or award any of the contracts listed below.

Table 1—Concession Contracts Extended Until the Expiration Date Shown or Until the Effective Date of a New Contract, Whichever Comes First
Park unit | CONCID | Concessioner | Extension effective date | Extension expiration date
Big South Fork NR&RA | BISO001-14 | Wilderness Lodging, LLC | 6/17/2024 | 6/16/2025
Blue Ridge Parkway | BLRI008-13 | Southern Highland Handicraft Guild, Inc. | 2/1/2024 | 1/31/2025
Blue Ridge Parkway | BLRI009-14 | Cape Leisure Mabry Mill, LLC | 1/1/2024 | 12/31/2024
Blue Ridge Parkway | BLRI010-13 | Price Lake Boat Rentals, Inc. | 4/1/2024 | 3/31/2025
Buffalo NR | BUFF002-13 | Lost Valley Canoe and Lodging, Inc. | 1/1/2024 | 12/31/2024
Buffalo NR | BUFF004-13 | Ozark Bison LLC | 1/1/2024 | 12/31/2024
Buffalo NR | BUFF005-13 | Silver Hill Canoe, Inc. | 1/1/2024 | 12/31/2024
Buffalo NR | BUFF009-13 | Buffalo Outdoor Center, Inc. | 1/1/2024 | 12/31/2024
Buffalo NR | BUFF010-13 | Buffalo River Outfitters, Inc. | 1/1/2024 | 12/31/2024
Buffalo NR | BUFF011-13 | Charles Raulston | 1/1/2024 | 12/31/2024
Buffalo NR | BUFF014-13 | Christopher Crockett | 1/1/2024 | 12/31/2024
Buffalo NR | BUFF015-13 | Buffalo Camping & Canoeing, Inc. | 1/1/2024 | 12/31/2024
Buffalo NR | BUFF016-13 | Buffalo River Float Service, LLC | 1/1/2024 | 12/31/2024
Buffalo NR | BUFF018-13 | Buffalo River Canoes, Inc. | 1/1/2024 | 12/31/2024
Buffalo NR | BUFF019-13 | Dirst Canoe Rental, Inc. | 1/1/2024 | 12/31/2024
Buffalo NR | BUFF022-13 | Bill Scruggs, Inc. | 1/1/2024 | 12/31/2024
Cape Cod NS | CACO003-14 | Johnson Golf Management, Inc. | 5/28/2024 | 5/27/2025
Cape Lookout NS | CALO001-14 | Island Express Ferry Service, LLC | 1/1/2024 | 12/31/2024
Chattahoochee River NRA | CHAT002-14 | Nantahala Outdoor Center LLC | 12/1/2024 | 11/30/2025
Crater Lake NP | CRLA003-12 | The Shuttle, Inc. | 5/1/2024 | 4/30/2025
Curecanti NRA | CURE001-16 | Elk Creek Marina, LLC | 1/1/2026 | 12/31/2026
Denali NP&P | DENA013-20 | Denali National Park Wilderness Centers, Ltd. | 1/1/2024 | 12/31/2024
Delaware Water Gap NRA | DEWA001-15 | John's Outdoors LLC | 1/1/2025 | 12/31/2025
Everglades NP | EVER004-11 | TRF Concession Specialists of Florida, Inc. | 1/1/2024 | 12/31/2024
Gateway NRA | GATE021-12 | JBAY, LLC | 1/1/2024 | 12/31/2024
Gateway NRA | GATE023-12 | JBAY, LLC | 1/1/2024 | 12/31/2024
Glen Canyon NRA | GLCA007-03 | Antelope Point Holdings, LLC | 1/1/2024 | 12/31/2024
Grand Canyon NP | GRCA034-12 | Bright Angel Bicycles, LLC | 3/1/2024 | 2/28/2025
Grand Teton NP | GRTE001-07 | Grand Teton Lodge Company | 1/1/2024 | 12/31/2024
Grand Teton NP | GRTE004-12 | Triangle X Partnership | 11/1/2025 | 10/31/2026
Grand Teton NP | GRTE005-13 | The American Alpine Club | 1/1/2024 | 12/31/2024
Grand Teton NP | GRTE009-14 | Exum Guide Service and School of Mountaineering, Inc. | 1/1/2024 | 12/31/2024
Grand Teton NP | GRTE012-14 | The Mountain Guides, Inc. | 1/1/2024 | 12/31/2024
Grand Teton NP | GRTE024-14 | EcoTour Adventures | 11/1/2024 | 10/31/2025
Grand Teton NP | GRTE025-13 | Powder Hounds, Inc. | 11/1/2024 | 10/31/2025
Grand Teton NP | GRTE032-14 | The Hole Hiking Experience, Inc. | 11/1/2024 | 10/31/2025
Grand Teton NP | GRTE033-17 | EcoTour Adventures, Inc. | 11/1/2024 | 10/31/2025
Grand Teton NP | GRTE034-15 | Wilderness Ventures, LLC | 1/1/2025 | 12/31/2025
Grand Teton NP | GRTE038-15 | The TVRC Education Foundation | 1/1/2025 | 12/31/2025
Hot Springs NP | HOSP002-12 | Buckstaff Bath House Company | 1/1/2024 | 12/31/2024
Lake Chelan NRA | LACH003-12 | Guest Services, Inc. | 3/1/2024 | 2/28/2025
Lake Mead NRA | LAKE004-13 | ARAMARK Sports and Entertainment Services, LLC | 12/6/2025 | 12/5/2026
Lake Mead NRA | LAKE017-13 | LMNRA Guest Services, LLC | 1/1/2025 | 12/31/2025
National Mall and Memorial Parks | NAMA002-15 | City Sightseeing, Washington, DC, Inc. | 4/1/2025 | 12/31/2025
Olympic NP | OLYM001-12 | DNC Parks and Resorts at Kalaloch, Inc. | 10/1/2024 | 9/30/2027
Olympic NP | OLYM002-13 | ARAMARK Sports and Entertainment Services, LLC | 10/1/2025 | 1/31/2026
Ozark NSR | OZAR011-12 | Current River Canoe Rental, LLC | 1/1/2024 | 12/31/2024
Ozark NSR | OZAR012-12 | Akers Ferry Canoe Rental, Inc. | 7/1/2024 | 12/31/2024
Rocky Mountain NP | ROMO009-12 | Streamside Properties, LLC | 1/1/2024 | 12/31/2024
Rocky Mountain NP | ROMO011-12 | YMCA of the Rockies | 1/1/2024 | 12/31/2024
Rocky Mountain NP | ROMO012-12 | Dao House, LLC | 1/1/2024 | 12/31/2024
Rocky Mountain NP | ROMO013-12 | Wind River Ministries, Inc. | 1/1/2024 | 12/31/2024
Rocky Mountain NP | ROMO016-12 | S K Horses, Ltd. | 1/1/2024 | 12/31/2024
Rocky Mountain NP | ROMO017-12 | Sombrero Ranches, Inc. | 1/1/2024 | 12/31/2024
Rocky Mountain NP | ROMO018-12 | Winding River Resort, Inc. | 1/1/2024 | 12/31/2024
Rocky Mountain NP | ROMO019-12 | Cheley Colorado Camps, Inc. | 1/1/2024 | 12/31/2024
Rocky Mountain NP | ROMO022-12 | Girl Scouts of Colorado | 1/1/2024 | 12/31/2024
Rocky Mountain NP | ROMO028-12 | S K Horses, Ltd. | 1/1/2024 | 12/31/2024
Rocky Mountain NP | ROMO029-12 | S K Horses, Ltd. | 1/1/2024 | 12/31/2024
Sequoia & Kings Canyon NPs | SEKI001-19 | Cedar Grove Pack Station | 1/1/2024 | 12/31/2024
Sequoia & Kings Canyon NPs | SEKI006-13 | DNC Parks & Resorts at Kings Canyon, Inc. | 11/1/2025 | 10/31/2028
Shenandoah NP | SHEN001-13 | DNC Parks & Resorts at Shenandoah, Inc. | 1/1/2025 | 12/31/2025
Yellowstone NP | YELL102-16 | Adventures Outfitting, LLC | 1/1/2026 | 12/31/2026
Yellowstone NP | YELL103-16 | Triangle X Ranch | 1/1/2026 | 12/31/2026
Yellowstone NP | YELL105-16 | Bear Paw Outfitters, LLC | 1/1/2026 | 12/31/2026
Yellowstone NP | YELL106-16 | Wildland Llamas, LLC | 1/1/2026 | 12/31/2026
Yellowstone NP | YELL107-16 | Boulder Basin Outfitters, Inc. | 1/1/2026 | 12/31/2026
Yellowstone NP | YELL108-16 | Sunrise Pack Station, LLC | 1/1/2026 | 12/31/2026
Yellowstone NP | YELL110-16 | Mountain Sky Guest Ranch, LLC | 1/1/2026 | 12/31/2026
Yellowstone NP | YELL115-16 | Yellowstone Horse and Mule, LLC | 1/1/2026 | 12/31/2026
Yellowstone NP | YELL117-16 | Black Mountain Outfitters, Inc. | 1/1/2026 | 12/31/2026
Yellowstone NP | YELL118-16 | Yellowstone Mountain Guides, Inc. | 1/1/2026 | 12/31/2026
Yellowstone NP | YELL120-16 | Slough Creek Outfitters, Inc. | 1/1/2026 | 12/31/2026
Yellowstone NP | YELL121-16 | Kenneth Sinay Company | 1/1/2026 | 12/31/2026
Yellowstone NP | YELL122-16 | Ronald D. Good | 1/1/2026 | 12/31/2026
Yellowstone NP | YELL123-16 | John D. Graham | 1/1/2026 | 12/31/2026
Yellowstone NP | YELL124-16 | Jake's Horses, Inc. | 1/1/2026 | 12/31/2026
Yellowstone NP | YELL125-16 | Cache Creek Outfitters, Inc. | 1/1/2026 | 12/31/2026
Yellowstone NP | YELL126-16 | Sunrise Pack Station, LLC | 1/1/2026 | 12/31/2026
Yellowstone NP | YELL127-16 | Thomas M. Heintz | 1/1/2026 | 12/31/2026
Yellowstone NP | YELL130-16 | Skyline Guest Ranch & Guide Service, Inc. | 1/1/2026 | 12/31/2026
Yellowstone NP | YELL131-16 | Hell's A' Roarin' Outfitters, Inc. | 1/1/2026 | 12/31/2026
Yellowstone NP | YELL132-16 | Nine Quarter Circle Ranch, Inc. | 1/1/2026 | 12/31/2026
Yellowstone NP | YELL137-16 | R.K. Miller's Wilderness Pack Trips, Inc. | 1/1/2026 | 12/31/2026
Yellowstone NP | YELL138-16 | AC Enterprises, LLC | 1/1/2026 | 12/31/2026
Yellowstone NP | YELL140-16 | Black Otter, Inc. | 1/1/2026 | 12/31/2026
Yellowstone NP | YELL141-16 | Yellowstone Mountain Guides, Inc. | 1/1/2026 | 12/31/2026
Yellowstone NP | YELL146-16 | Yellowstone Mountain Guides, Inc. | 1/1/2026 | 12/31/2026
Yellowstone NP | YELL147-16 | Yellowstone Mountain Guides, Inc. | 1/1/2026 | 12/31/2026
Yellowstone NP | YELL148-16 | Dry Ridge Outfitters, LLC | 1/1/2026 | 12/31/2026
Yellowstone NP | YELL156-16 | Heart 6 Ranch, LLC | 1/1/2026 | 12/31/2026
Yellowstone NP | YELL157-16 | Horsetrack Outfitters, LLC | 1/1/2026 | 12/31/2026
Yellowstone NP | YELL158-16 | Wilderness Trails, Inc. | 1/1/2026 | 12/31/2026
Yellowstone NP | YELL159-16 | Hidden Creek Outfitters, LLC | 1/1/2026 | 12/31/2026
Yellowstone NP | YELL162-16 | Rand Creek Outfitters, LLC | 1/1/2026 | 12/31/2026
Yellowstone NP | YELL164-16 | TNT Ranch, LLC | 1/1/2026 | 12/31/2026
Yellowstone NP | YELL165-16 | The Lone Mountain Ranch Incorporated | 1/1/2026 | 12/31/2026
Yellowstone NP | YELL166-16 | ER Ranch Corporation | 1/1/2026 | 12/31/2026
Yellowstone NP | YELL168-16 | The Wildland Trekking Company, LLC | 1/1/2026 | 12/31/2026
Yellowstone NP | YELL170-16 | Rockin' HK Outfitters, Inc. | 1/1/2026 | 12/31/2026
Yellowstone NP | YELL500-14 | Arden Baily | 7/1/2024 | 6/30/2025
Yellowstone NP | YELL501-14 | Three Bears Rentals, LLC | 7/1/2024 | 6/30/2025
Yellowstone NP | YELL502-14 | Three Bears Rentals, LLC | 7/1/2024 | 6/30/2025
Yellowstone NP | YELL503-14 | DNC Parks & Resorts Yellowstone Adventures, Inc. | 7/1/2024 | 6/30/2025
Yellowstone NP | YELL504-14 | Back Country Adventures Inc. | 7/1/2024 | 6/30/2025
Yellowstone NP | YELL505-14 | DNC Parks & Resorts Yellowstone Adventures, Inc. | 7/1/2024 | 6/30/2025
Yellowstone NP | YELL506-14 | DNC Parks & Resorts Yellowstone Adventures, Inc. | 7/1/2024 | 6/30/2025
Yellowstone NP | YELL507-14 | DNC Parks & Resorts Yellowstone Adventures, Inc. | 7/1/2024 | 6/30/2025
Yellowstone NP | YELL508-14 | DNC Parks & Resorts Yellowstone Adventures, Inc. | 7/1/2024 | 6/30/2025
Yellowstone NP | YELL509-14 | DNC Parks & Resorts Yellowstone Adventures, Inc. | 7/1/2024 | 6/30/2025
Yellowstone NP | YELL510-14 | DNC Parks & Resorts Yellowstone Adventures, Inc. | 7/1/2024 | 6/30/2025
Yellowstone NP | YELL511-14 | DNC Parks & Resorts Yellowstone Adventures, Inc. | 7/1/2024 | 6/30/2025
Yellowstone NP | YELL512-14 | ARAMARK Sports and Entertainment Services, LLC | 7/1/2024 | 6/30/2025
Yellowstone NP | YELL513-14 | ARAMARK Sports and Entertainment Services, LLC | 7/1/2024 | 6/30/2025
Yellowstone NP | YELL514-14 | ARAMARK Sports and Entertainment Services, LLC | 7/1/2024 | 6/30/2025
Yellowstone NP | YELL515-14 | ARAMARK Sports and Entertainment Services, LLC | 7/1/2024 | 6/30/2025
Yellowstone NP | YELL516-14 | ARAMARK Sports and Entertainment Services, LLC | 7/1/2024 | 6/30/2025
Yellowstone NP | YELL517-14 | ARAMARK Sports and Entertainment Services, LLC | 7/1/2024 | 6/30/2025
Yellowstone NP | YELL518-14 | ARAMARK Sports and Entertainment Services, LLC | 7/1/2024 | 6/30/2025
Yellowstone NP | YELL519-14 | Teton Science Schools, Inc. | 7/1/2024 | 6/30/2025
Yellowstone NP | YELL520-14 | Teton Science Schools, Inc. | 7/1/2024 | 6/30/2025
Yellowstone NP | YELL522-14 | Gary Fales Outfitting, Inc. | 7/1/2024 | 6/30/2025
Yellowstone NP | YELL523-14 | DNC Parks & Resorts Yellowstone Adventures, Inc. | 7/1/2024 | 6/30/2025
Zion NP | ZION001-15 | Bryce-Zion Trail Rides, Inc. | 1/1/2025 | 12/31/2025

Table 2—Concession Contracts Continued Until the Expiration Date Shown or Until the Effective Date of a New Contract, Whichever Comes First
Park unit | CONCID | Concessioner | Continuation effective date | Continuation expiration date
Glen Canyon NRA | GLCA002-88 | ARAMARK Sports and Entertainment Services, LLC | 1/1/2024 | 12/31/2024
Glen Canyon NRA | GLCA003-69 | ARAMARK Sports and Entertainment Services, LLC | 1/1/2024 | 12/31/2024
Lake Mead NRA | LAKE002-82 | LMNRA Guest Services, LLC | 1/1/2024 | 12/31/2024
Lake Mead NRA | LAKE005-97 | LMNRA Guest Services, LLC | 1/1/2024 | 12/31/2024
Lake Mead NRA | LAKE006-74 | Las Vegas Boat Harbor, Inc. | 1/1/2024 | 12/31/2024
Lake Mead NRA | LAKE009-88 | LMNRA Guest Services, LLC | 1/1/2024 | 12/31/2024
Interior Region 1—National Capital Region | NACC003-86 | Guest Services, Inc. | 1/1/2024 | 12/31/2025

Table 3—Temporary Concession Contract
Park Unit | CONCID | Services | Effective date
Voyageurs NP | VOYA002-11 | Lodging, Food and Beverage, Transportation, Marina, Retail, and Boat Portage Services | 1/1/2024

Justin Unger,
Associate Director, Business Services.

[FR Doc. 2023-21908 Filed 10-3-23; 8:45 am]

BILLING CODE 4312-52-P